ENVIRONMENTAL PROTECTION AGENCY

[EPA-HQ-OW-2021-0128; FRL-10020-81-OW]

Proposed Information Collection Request; Comment Request; Clean Watersheds Needs Survey (CWNS) (Reinstatement)

AGENCY: Environmental Protection Agency (EPA).

ACTION: Notice.

SUMMARY: The Environmental Protection Agency (EPA) is planning to submit an information collection request (ICR), “Clean Watersheds Needs Survey (CWNS) (Reinstatement)” (EPA ICR No. 0318.14, OMB Control No. 2040-0050) to the Office of Management and Budget (OMB) for review and approval in accordance with the Paperwork Reduction Act (PRA). Before doing so, EPA is soliciting public comments on specific aspects of the proposed information collection as described below. This is a reinstatement of the ICR. An Agency may not conduct or sponsor and a person is not required to respond to a collection of information unless it displays a currently valid OMB control number.

DATES: Comments must be submitted on or before April 30, 2021.

ADDRESSES: Submit your comments, referencing Docket ID No. EPA-HQ-OW-2021-0128 online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Elisabeth Schlaudt, Office of Water, State Revolving Fund Branch, (4204M), Environmental Protection Agency, 1200 Pennsylvania Ave. NW, Washington, DC 20460; telephone number: 202-564-8934; email address: schlaudt.elisabeth@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. EPA is temporarily suspending its Docket Center and Reading Room for public visitors, with limited exceptions, to reduce the risk of transmitting COVID-19. Our Docket Center staff will continue to provide remote customer service via email, phone, and webform. For additional information about EPA's public docket, visit http://www.epa.gov/dockets.

Pursuant to section 3506(c)(2)(A) of the PRA (44 U.S.C. 3501 et seq.), EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Clean Watersheds Needs Survey (CWNS) is required by Clean Water Act (CWA) Sections 205(a) and 516. It is a periodic inventory of existing and planned publicly owned wastewater conveyance and treatment facilities, combined sewer overflow correction, stormwater management and other water pollution control facilities in the United States, as well as an estimate of how many of these facilities need to be built. The CWNS is a joint effort between EPA and the states. The CWNS collects cost and technical data from states that are associated with publicly owned treatment works (POTWs) and other water pollution control facilities, existing and planned. The respondents who provide this information to EPA are state agencies responsible for environmental pollution control and local facility contacts who provide documentation to the states. Periodically, the states request data or documentation from contacts at the facility or local government level. These respondents are referred to as facilities.

No confidential information is used, nor is sensitive information protected from release under the Public Information Act. EPA achieves national consistency in the final results through the application of uniform guidelines and validation techniques.

Form Numbers: None.

Respondents/affected entities: States, Territories, and Local Facilities.

Respondent's obligation to respond: Voluntary.

Estimated number of respondents: 56 States and Territories, 5,349 Local Facilities (total).

Frequency of response: Every 4 years.

Total estimated burden: 9,645 hours (per year). Burden is defined at 5 CFR 1320.03(b).

Total estimated cost: $505,004 (per year), includes $0 annualized capital or operation & maintenance costs.

Changes in Estimates: There is an increase of 541 hours and $134,820 in the total estimated respondent burden compared with the ICR previously approved by OMB. This increase is based upon an increase in facility universe, as well as an adjustment in labor rates and benefits.

Dated: February 18, 2021.
Andrew D. Sawyers,
Director, Office of Wastewater Management.

[FR Doc. 2021-04197 Filed 2-26-21; 8:45 am]

BILLING CODE 6560-50-P